DEPARTMENT OF HOMELAND SECURITY

Federal Emergency Management Agency

[Docket ID FEMA-2019-0002; Internal Agency Docket No. FEMA-B-1928]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | Unincorporated areas of Madison County (19-04-1087P) | The Honorable Dale W. Strong, Chairman, Madison County Commission, 100 North Side Square, Huntsville, AL 35801 | Engineering Department, 100 Hughes Road, Madison, AL 35758 | https://msc.fema.gov/portal/advanceSearch | Jul. 29, 2019 | 010151
Russell | City of Phenix City (17-04-3686P) | The Honorable Eddie N. Lowe, Mayor, City of Phenix City, 1206 7th Avenue, Phenix City, AL 36867 | Engineering and Public Works Department, 1206 7th Avenue, Phenix City, AL 36867 | https://msc.fema.gov/portal/advanceSearch | Jul. 5, 2019 | 010184
Connecticut: New Haven | Town of Branford (19-01-0264P) | The Honorable James B. Cosgrove, First Selectman, Town of Branford Board of Selectmen, 1019 Main Street, Branford, CT 06405 | Engineering Department, 1019 Main Street, Branford, CT 06405 | https://msc.fema.gov/portal/advanceSearch | Jun. 28, 2019 | 090073
Florida:
Duval | City of Jacksonville (18-04-7273P) | The Honorable Lenny Curry, Mayor, City of Jacksonville, 117 West Duval Street, Suite 400, Jacksonville, FL 32002 | Development Services Department, 214 North Hogan Street, Suite 2100, Jacksonville, FL 32002 | https://msc.fema.gov/portal/advanceSearch | Aug. 2, 2019 | 120077
Duval | City of Neptune Beach (18-04-7273P) | Mr. Andrew E. Hyatt, Manager, City of Neptune Beach, 116 1st Street, Neptune Beach, FL 32266 | Planning and Community Development Department, 116 1st Street, Neptune Beach, FL 32266 | https://msc.fema.gov/portal/advanceSearch | Aug. 2, 2019 | 120079
Leon | City of Tallahassee (18-04-2534P) | The Honorable Andrew Gillum, Mayor, City of Tallahassee, 300 South Adams Street, Tallahassee, FL 32301 | City Hall, 300 South Adams Street, Tallahassee, FL 32301 | https://msc.fema.gov/portal/advanceSearch | Aug. 5, 2019 | 120144
Monroe | Unincorporated areas of Monroe County (19-04-1616P) | The Honorable Sylvia Murphy, Mayor, Monroe County Board of Commissioners, 102050 Overseas Highway, Suite 234, Key Largo, FL 33037 | Monroe County Building Department, 2798 Overseas Highway, Suite 300, Marathon, FL 33050 | https://msc.fema.gov/portal/advanceSearch | Jul. 22, 2019 | 125129
Georgia: Muscogee | Columbus Consolidated Government (17-04-3686P) | The Honorable Teresa Tomlinson, Mayor, City of Columbus, 100 East 10th Street, Columbus, GA 31901 | Stormwater Division, 420 10th Street, Columbus, GA 31901 | https://msc.fema.gov/portal/advanceSearch | Jul. 5, 2019 | 135158
Mississippi: Madison | City of Canton (19-04-0575P) | The Honorable William Truly, Jr., Mayor, City of Canton, P.O. Box 1605, Canton, MS 39046 | Building and Development Department, 226 East Peace Street, Canton, MS 39046 | https://msc.fema.gov/portal/advanceSearch | Aug. 2, 2019 | 280109
Nevada: Clark | City of North Las Vegas (18-09-1807P) | Mr. Ryann Juden, Manager, City of North Las Vegas, 2250 Las Vegas Boulevard North, Suite 900, North Las Vegas, NV 89030 | Public Works Department, 2200 Civic Center Drive, North Las Vegas, NV 89030 | https://msc.fema.gov/portal/advanceSearch | Jul. 30, 2019 | 320007
Pennsylvania:
Beaver | Borough of Big Beaver (19-03-0284P) | The Honorable Don Wachter, Mayor, Borough of Big Beaver, 114 Forest Drive, Darlington, PA 16115 | Zoning and Code Enforcement Department, 114 Forest Drive, Darlington, PA 16115 | https://msc.fema.gov/portal/advanceSearch | Jul. 15, 2019 | 422307
Beaver | Township of Darlington (19-03-0284P) | The Honorable Chad Crawford, Mayor, Township of Darlington Board of Supervisors, 3590 Darlington Road, Darlington, PA 16115 | Zoning and Code Enforcement Department, 3590 Darlington Road, Darlington, PA 16115 | https://msc.fema.gov/portal/advanceSearch | Jul. 15, 2019 | 422312
Texas:
Collin | City of Celina (18-06-2512P) | The Honorable Sean Terry, Mayor, City of Celina, 142 North Ohio Street, Celina, TX 75009 | Engineering Services Department, 142 North Ohio Street, Celina, TX 75009 | https://msc.fema.gov/portal/advanceSearch | Jul. 15, 2019 | 480133
Collin | Town of Fairview (18-06-1879P) | The Honorable Darion Culbertson, Mayor, Town of Fairview, 372 Town Place, Fairview, TX 75069 | Town Hall, 372 Town Place, Fairview, TX 75069 | https://msc.fema.gov/portal/advanceSearch | Jul. 8, 2019 | 481069
Collin | Unincorporated areas of Collin County (18-06-2512P) | The Honorable Chris Hill, Collin County Judge, 2300 Bloomdale Road, Suite 4192, McKinney, TX 75071 | Collin County Engineering Department, 4690 Community Avenue, Suite 200, McKinney, TX 75071 | https://msc.fema.gov/portal/advanceSearch | Jul. 15, 2019 | 480130
Fort Bend | Unincorporated areas of Fort Bend County (19-06-0254P) | The Honorable K. P. George, Fort Bend County Judge, 401 Jackson Street, Richmond, TX 77469 | Fort Bend County Engineering Department, 301 Jackson Street, Richmond, TX 77469 | https://msc.fema.gov/portal/advanceSearch | Aug. 8, 2019 | 480228
Tarrant | City of Fort Worth (18-06-1342P) | The Honorable Betsy Price, Mayor, City of Fort Worth, 200 Texas Street, Fort Worth, TX 76102 | Transportation and Public Works Department, 200 Texas Street, Fort Worth, TX 76102 | https://msc.fema.gov/portal/advanceSearch | Jun. 17, 2019 | 480596
Tarrant | City of Fort Worth (18-06-2089P) | The Honorable Betsy Price, Mayor, City of Fort Worth, 200 Texas Street, Fort Worth, TX 76102 | Transportation and Public Works Department, 200 Texas Street, Fort Worth, TX 76102 | https://msc.fema.gov/portal/advanceSearch | Apr. 11, 2019 | 480596

[FR Doc. 2019-09602 Filed 5-8-19; 8:45 am]

BILLING CODE 9110-12-P